DEPARTMENT OF LABOR

Employment and Training Administration

[TA-W-83,047; TA-W-83,047A]

Mt. Ida Footwear Co.; a Subsidiary of Munro & Company, Inc.; Mount Ida, Arkansas; Munro & Company, Inc. Hot Springs, Arkansas; Amended Certification Regarding Eligibility To Apply for Worker Adjustment Assistance

In accordance with Section 223 of the Trade Act of 1974, as amended (“Act”), 19 U.S.C. 2273, the Department of Labor issued a Certification of Eligibility to Apply for Worker Adjustment Assistance on September 17, 2013, applicable to workers of Mt. Ida Footwear Co., a subsidiary of Munro & Company, Inc., Mount Ida, Arkansas. The Department's notice of determination was published in the Federal Register on October 24, 2013 (78 FR 63496).

At the request of the state workforce office, the Department reviewed the certification for workers of the subject firm. The workers were engaged in the production of women's shoes.

The investigation confirms that workers located at Munro & Company, Inc., Hot Springs, Arkansas also experienced separations due an acquisition of articles from a foreign country.

Based on these findings, the Department is amending this certification to include workers of Munro & Company, Inc., Hot Springs, Arkansas.

The amended notice applicable to TA-W-83,047 is hereby issued as follows:

All workers of Mt. Ida Footwear Co., a subsidiary of Munro & Company, Inc., Mt. Ida, Arkansas (TA-W-83,047), and Munro & Company, Inc., Hot Springs, Arkansas (TA-W-83,047A), who became totally or partially separated from employment on or after August 30, 2012, through September 17, 2015, and all workers in the group threatened with total or partial separation from employment on the date of certification through September 17, 2015, are eligible to apply for adjustment assistance under Chapter 2 of Title II of the Trade Act of 1974, as amended.

Signed in Washington, DC, this 29th day of April, 2014.
Michael W. Jaffe,
Certifying Officer, Office of Trade Adjustment Assistance.

[FR Doc. 2014-11639 Filed 5-20-14; 8:45 am]

BILLING CODE 4510-FN-P